DEPARTMENT OF LABOR

Employment and Training Administration

[TA-W-52,915]

Advanced Design and Knits, Inc., Copiague, NY; Notice of Termination of Investigation

Pursuant to section 221 of the Trade Act of 1974, as amended, an investigation was initiated on September 23, 2003 in response to a petition filed by a company official, and ex-worker on behalf of workers at Advanced Design and Knits, Inc. Copiague, New York.

The petitioner has requested that the petition be withdrawn. Consequently, the investigation has been terminated.

Signed at Washington, DC this 16th day of October, 2003.
Richard Church,
Certifying Officer, Division of Trade Adjustment Assistance.

[FR Doc. 03-31527 Filed 12-22-03; 8:45 am]

BILLING CODE 4510-30-P